INTERNATIONAL TRADE COMMISSION

[Investigations Nos. 701-TA-434 and 731-TA-1030-1032 (Preliminary)]

4,4'-Diamino-2,2'-Stilbenedisulfonic Acid and Stilbenic Fluorescent Whitening Agents from China, Germany, and India

AGENCY: International Trade Commission.

ACTION: Notice of withdrawal of petition in countervailing duty and antidumping investigations.

SUMMARY: On April 10, 2003, the Department of Commerce and the Commission received a letter from petitioner in the subject investigations (Ciba Specialty Chemicals Corporation, Tarrytown, NY) withdrawing its petition. Commerce has not initiated investigations as provided for in sections 702(c) and 732(c) of the Tariff Act of 1930 (19 U.S.C. 1671a(c)/1673a(c)). Accordingly, the Commission gives notice that its countervailing duty and antidumping investigations concerning 4,4'-diamino-2,2'-stilbenedisulfonic acid and stilbenic fluorescent whitening agents from China, Germany, and India (investigations Nos. 701-TA-434 and 731-TA-1030-1032 (Preliminary)) are discontinued.

EFFECTIVE DATE: April 14, 2003.

FOR FURTHER INFORMATION CONTACT: Diane J. Mazur (202-205-3184), Office of Investigations, U.S. International Trade Commission, 500 E Street, SW., Washington, DC 20436. Hearing-impaired individuals are advised that information on this matter can be obtained by contacting the Commission's TDD terminal on 202-205-1810. Persons with mobility impairments who will need special assistance in gaining access to the Commission should contact the Office of the Secretary at 202-205-2000. General information concerning the Commission may also be obtained by accessing its Internet server (http://www.usitc.gov). The public record for these investigations may be viewed on the Commission's electronic docket (EDIS) at http://edis.usitc.gov.

By order of the Commission.
Issued: April 15, 2003.
Marilyn R. Abbott,
Secretary to the Commission.

[FR Doc. 03-9685 Filed 4-18-03; 8:45 am]

BILLING CODE 7020-02-P